DEPARTMENT OF ENERGY

Federal Energy Regulatory Commission

[Project No. 12514-000—Indiana]

Northern Indiana Public Service Company; Norway and Oakdale Hydroelectric Project; Notice of Meeting To Discuss Project Boundary Location

September 21, 2005.

a. Date and Time of Meeting: October 6, 2005 at 2 p.m. (EST).

b. Place: Federal Energy Regulatory Commission's (FERC) Headquarters, 888 1st St, NE., Washington, DC 20426; Room 62-22.

c. FERC Contact: Sergiu Serban at (202) 502-6211, or sergiu.serban@ferc.gov.

d. Purpose of Meeting: To discuss the location of the project boundary in the pending proceeding on the license application for the Norway and Oakdale Project. A summary of the meeting will be placed in the project's public record.

e. All local, State, and Federal agencies, Indian tribes, and other interested parties are invited to participate either in person or by phone. Please call Sergiu Serban at (202) 502-6211 by October 4, 2005, to RSVP and to receive specific instructions on how to participate.

f. FERC conferences are accessible under section 508 of the Rehabilitation Act of 1973. For accessibility accommodations please send an e-mail to accessibility@ferc.gov or call toll free (866) 208-3372 (voice) or (202) 208-1659 (TTY), or send a fax to (202) 208-2106 with the required accommodations.

Magalie R. Salas,
Secretary.

[FR Doc. E5-5269 Filed 9-27-05; 8:45 am]

BILLING CODE 6717-01-P